DEPARTMENT OF AGRICULTURE

Submission for OMB Review; Comment Request

August 30, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Permit for the Movement of Restricted Animals.

OMB Control Number: 0579-0051.

Summary of Collection: Title 21, U.S.C. authorizes sections 111, 114, 114a, 114-1, 115, 120, 121, 125, 126, 134a, 134c, 134f, and 134g. These authorities permit the Secretary to prevent, control and eliminate domestic diseases such as tuberculosis and brucellosis, as well as to take actions to prevent and to manage exotic animal diseases such as hog cholera, foot-and-mouth disease, and other foreign diseases. Disease prevention is the most effective method of maintaining a healthy animal population and for enhancing the Animal and Plant Health Inspection Service (APHIS) ability to compete in the world market of animals and animal product trade. When farm animals become sick or have been exposed to a disease, it is important that they be removed promptly from their farm. If an animal must be transported across state lines, the owner will complete a “Permit for the Movement of Restricted Animals,” VS Form 1-27.

Need and Use of the Information: APHIS will collect the owner's name, address, the animals' point of origin and destination, the number of animals being moved, the purpose of the movement, and various pieces of animal identification data so that each animal in the shipment can be identified. Meat inspector report the slaughter of the animals to veterinary services also uses VS Form 1-27. Without the information, APHIS would be unable to effectively monitor and control the movement of sick animals, a situation that could seriously compromise the health of the U.S. livestock population.

Description of Respondents: Business or other for-profit.

Number of Respondents: 4,000.

Frequency of Responses: Reporting: On occasion.

Total Burden Hours: 996.

Animal and Plant Health Inspection Service

Title: Tuberculosis Testing for Imported Cattle.

OMB Control Number: 0579-0224.

Summary of Collection: Under the authority of Title 21, U.S.C., the Secretary of Agriculture is permitted to prevent, control and eliminate domestic diseases such as tuberculosis, as well as to take actions to prevent and to manage exotic diseases such as foot-and-mouth, rinderpest, and other foreign diseases. Disease prevention is the most effective method for maintaining a healthy animal population and enhancing the ability of U.S. producers to compete in the global market of animal and animal product trade. The Animal and Plant Health Inspection Service (APHIS) will collect information using form VS 17-129, “Application for Import or In Transit Permit.”

Need and Use of the Information: APHIS will collect information from the permit application regarding the type, number, and identification of the animals to be exported to the United States, as well as information concerning the origin, intended date and location of arrival, routes of travel, and destination of the animals. APHIS will also collect information that certified that the herd in which the cattle was born and raised has tested TB-negative to a whole herd test. Failure to collect this information would make it impossible for APHIS to effectively evaluate the TB risks associated with cattle importation from Mexico, thereby increasing the likelihood that healthy cattle and bison throughout the United States will be exposed to tuberculosis.

Description of Respondents: Business or other for-profit; Farms.

Number of Respondents: 100.

Frequency of Responses: Reporting: On occasion.

Total Burden Hours: 15,000.

Ruth Brown,
Departmental Information Collection Clearance Officer.

[FR Doc. E6-14645 Filed 9-1-06; 8:45 am]

BILLING CODE 3410-34-P